Title 3—

The President

Proclamation 10098 of October 9, 2020

National School Lunch Week, 2020

By the President of the United States of America

A Proclamation

During National School Lunch Week, we celebrate our Nation's commitment to providing nutritious food to millions of students, and we recognize the many dedicated food service professionals and administrators who help carry out this mission. In a typical year, the National School Lunch Program provides meals to nearly 30 million schoolchildren every day across the country. These meals enable students in need to eat nutritious meals, which helps them achieve academic success and reach their full potential.

The National School Lunch Program succeeds because of the strong partnerships between the Federal Government and State governments, food service professionals, and local school leaders. Our Nation's farmers, ranchers, and producers are also essential to providing the food our children eat. Since this program was established in 1946, the collaboration between these key players has been vital to its success, and their cooperation has never been more crucial than during this pivotal time in our Nation's history.

In recent months, it has become increasingly evident just how many families depend on the meals provided at school. As thousands of schools transitioned to remote learning in response to the coronavirus pandemic, I signed the Families First Coronavirus Response Act to ensure schools could continue serving children the meals they need. My Administration also launched the innovative public-private partnership ``Meals to You'' which delivered more than 40 million nutritious meals to children in rural areas while schools were closed. In the battle with this invisible enemy, resilience and flexibility have been critical to keeping our children safe and fed, and we are thankful for the extra efforts that have been made to achieve this goal.

Throughout the last few months, my Administration has recognized that our children's well-being depends so much on their access to schools. I have encouraged all schools to safely reopen, and we want to ensure that they are as prepared as ever to provide healthy meals to all students. In June, my Administration invested in the health of students by awarding more than $12.1 million—a record amount—in Farm to School Grants. These funds will help bring clean, fresh, and locally-grown foods into schools and communities as they reopen, and will help foster economic opportunity for America's farmers as we continue our economic comeback. Additionally, on October 9, my Administration extended flexibilities and waived requirements to continue operating the summer meals program and the seamless summer option at no cost until the end of the school year. This program allows any child under 18 to get a free meal at a meal distribution site, and allows parents and guardians to pick up meals for their children. We are proud of these measures and others that we have taken to help ensure that all students have access to nutritious food.

To emphasize the importance of the National School Lunch Program, the Congress, by joint resolution of October 9, 1962 (Public Law 87-780), has designated the week beginning on the second Sunday in October each year as ``National School Lunch Week'' and has requested the President to issue a proclamation in observance of this week.

NOW, THEREFORE, I, DONALD J. TRUMP, President of the United States of America, by virtue of the authority vested in me by the Constitution and the laws of the United States, do hereby proclaim October 11 through October 17, 2020, as National School Lunch Week. I call upon all Americans to join the countless individuals who administer the National School Lunch Program in activities that support and promote awareness of the health and well-being of our Nation's children.

IN WITNESS WHEREOF, I have hereunto set my hand this ninth day of October, in the year of our Lord two thousand twenty, and of the Independence of the United States of America the two hundred and forty-fifth.

[FR Doc. 2020-23102

Filed 10-15-20; 8:45 am]

Billing code 3295-F1-P